DEPARTMENT OF ENERGY

[OE Docket No. EA-402]

Application to Export Electric Energy; Energia Sierra Juarez U.S., LLC

AGENCY: Office of Electricity Delivery and Energy Reliability, DOE.

ACTION: Notice of Application.

SUMMARY: Energia Sierra Juarez U.S., LLC (Applicant) has applied for authority to transmit electric energy from the United States to Mexico pursuant to section 202(e) of the Federal Power Act.

DATES: Comments, protests, or motions to intervene must be submitted on or before July 25, 2014.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On June 13, 2014, DOE received an application from the Applicant for authority to transmit electric energy from the United States to Mexico. The Applicant's request is limited to the transmission of de minimis station power from the California ISO Balancing Authority Area (CAISO BAA) to the ESJ Facility, a 156 MW wind generation facility under development in northern Mexico from which Applicant plans to market energy, capacity and/or ancillary services to the United States. The requested export authority—estimated to not exceed an instantaneous rate of 6 MW—is limited to transmission over a 230 kV radial generator-tie line known as the ESJ Gen-Tie, which is currently under construction by the Applicant's subsidiary in accordance with Presidential Permit PP-334.

In its application, the Applicant states that it does not have a franchised service area. The electric energy that the Applicant proposes to export to Mexico would be surplus energy purchased within the United States and transmitted from the CASIO BAA via the ECO Substation.

The Applicant requests export authority for a period not to extend beyond the date of termination of the associated Presidential Permit PP-334.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the Applicant's application to export electric energy to Mexico should be clearly marked with OE Docket No. EA-402. An additional copy is to be provided directly to Daniel A. King, Sempra U.S. Gas & Power, LLC, 101 Ash Street HQ15C, San Diego, CA 92101 and to Thomas E. Jennings, Sempra International, 101 Ash Street, HQ02-SI, San Diego, CA 92101. A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available by request to the addresses provided above or by accessing the program Web site at http://energy.gov/node/11845.

Issued in Washington, DC, on June 17, 2014.
Brian Mills,
Director, Permitting and Siting, Office of Electricity Delivery and Energy Reliability.

[FR Doc. 2014-14818 Filed 6-24-14; 8:45 am]

BILLING CODE 6450-01-P